NATIONAL ARCHIVES AND RECORDS ADMINISTRATION

Guidance to Federal Financial Assistance Recipients Regarding Title VI Prohibition Against National Origin Discrimination Affecting Limited English Proficient Persons; Correction

AGENCY: National Archives and Records Administration.

ACTION: Notice of guidance; correction.

SUMMARY: This document corrects the preamble to a notice published in the Federal Register of January 12, 2004, regarding guidance on Title VI's prohibition against national origin discrimination as it affects limited English proficient persons. The date for submitting comments was missing in the DATES section. This document corrects that error.

DATES: Comments must be submitted on or before March 12, 2004. NARA will review all comments and will determine what modifications, if any, to this policy guidance are necessary.

ADDRESSES: Comments must be sent to Regulation Comments Desk (NPOL), Room 4100, Policy and Communications Staff, National Archives and Records Administration, 8601 Adelphi Road, College Park, MD 20740-6001. They may be faxed to (301) 837-0319. Electronic comments may be submitted through Regulations.gov. You may also comment via email to comments@nara.gov.

FOR FURTHER INFORMATION CONTACT: Diane Dimkoff at telephone number (301) 837-1659. Arrangements to receive the policy in an alternative format may be made by contacting the named individual.

Dated: January 14, 2004.
Nancy Allard,
Federal Register Liaison Officer.

[FR Doc. 04-1248 Filed 1-21-04; 8:45 am]

BILLING CODE 7515-01-P